DEPARTMENT OF COMMERCE

National Oceanic and Atmospheric Administration

RIN 0648-XF80

Marine Mammals; File No. 10084

AGENCY: National Marine Fisheries Service (NMFS), National Oceanic and Atmospheric Administration (NOAA), Commerce.

ACTION: Notice; issuance of permit.

SUMMARY: Notice is hereby given that Sea World, Inc., 7007 Sea World Drive, Orlando, FL 32821 [Brad Andrews, Responsible Party] has been issued a permit to import one beluga whale (Delphinapterus leucas) for public display.

ADDRESSES: The permit and related documents are available for review upon written request or by appointment in the following office(s):

Permits, Conservation and Education Division, Office of Protected Resources, NMFS, 1315 East-West Highway, Room 13705, Silver Spring, MD 20910; phone (301)713-2289; fax (301)713-0376; and

Southeast Region, NMFS, 263 13th Avenue South, Saint Petersburg, FL 33701; phone (727)824-5312; fax (727)824-5309.

FOR FURTHER INFORMATION CONTACT: Jennifer Skidmore or Kate Swails, (301)713-2289.

SUPPLEMENTARY INFORMATION: On December 3, 2007, notice was published in the Federal Register (72 FR 67915) that a request for a public display permit to import one female juvenile beluga whale from Marineland of Canada in Ontario, Canada to Sea World of Florida in Orlando, Florida, had been submitted by the above-named organization. The requested permit has been issued under the authority of the Marine Mammal Protection Act of 1972, as amended (16 U.S.C. 1361 et seq.), the regulations governing the taking and importing of marine mammals (50 CFR part 216).

In compliance with the National Environmental Policy Act of 1969 (42 U.S.C. 4321 et seq.), an environmental assessment was prepared analyzing the effects of the permitted activities. After a Finding of No Significant Impact, the determination was made that it was not necessary to prepare an environmental impact statement.

Dated: March 27, 2008.
P. Michael Payne,
Chief, Permits, Conservation and Education Division, Office of Protected Resources, National Marine Fisheries Service.

[FR Doc. E8-7023 Filed 4-3-08; 8:45 am]

BILLING CODE 3510-22-S